DEPARTMENT OF COMMERCE

Foreign-Trade Zones Board

[B-32-2018]

Foreign-Trade Zone (FTZ) 230—Piedmont Triad Area, North Carolina; Notification of Proposed Production Activity Deere-Hitachi Construction Machinery Corp. (Forestry Machinery, and Forestry Machinery and Hydraulic Excavator Frames/Booms/Arms) Kernersville, North Carolina

Deere-Hitachi Construction Machinery Corp. (DHCMC) submitted a notification of proposed production activity to the FTZ Board for its facility in Kernersville, North Carolina. The notification conforming to the requirements of the regulations of the FTZ Board (15 CFR 400.22) was received on May 11, 2018.

DHCMC already has authority to produce finished and unfinished hydraulic excavators within Sites 30 and 32 of FTZ 230. The current request would add forestry machinery, forestry machinery frames/booms/arms, and hydraulic excavator frames/booms/arms to the scope of authority. Pursuant to 15 CFR 400.14(b), additional FTZ authority would be limited to the specific foreign-status materials/components and specific finished products described in the submitted notification (as described below) and subsequently authorized by the FTZ Board.

Production under FTZ procedures could exempt DHCMC from customs duty payments on the foreign-status materials/components used in export production. On its domestic sales, for the foreign-status materials/components noted below and in the existing scope of authority, DHCMC would be able to choose the duty rates during customs entry procedures that apply to: Main frames for hydraulic excavators; track frames for hydraulic excavators; booms for hydraulic excavators; arms for hydraulic excavators; forestry machinery; main frames for forestry machinery; track frames for forestry machinery; booms for forestry machinery; and, arms for forestry machinery (duty-free). DHCMC would be able to avoid duty on foreign-status components which become scrap/waste. Customs duties also could possibly be deferred or reduced on foreign-status production equipment.

The materials/components sourced from abroad include: Plastic hoses; decals; plastic O-rings/seals; rubber hoses not reinforced or otherwise combined with other materials, with fittings; rubber hoses reinforced or otherwise combined only with textile materials; rubber hoses reinforced or otherwise combined with other material; endless transmission belts of trapezoidal cross section (V-belts), other than V-ribbed, of an outside circumference exceeding 60 cm but not exceeding 180 cm; endless transmission belts of trapezoidal cross section (V-belts and belting); rubber floor mats; rubber O-rings/seals; rubber bushings; rubber caps; rubber trim; rubber isolators; steel socket bolts; steel eye bolts; steel SEMS bolts; steel U-bolts; steel screws; steel SEMS screws; steel nuts; steel U-nuts; steel screws that act as nuts; steel spring washers; retainer steel washers; disc steel washers; spacer steel washers; steel washers; steel cotters; steel cotter pins; steel pins; steel stoppers; steel track springs; steel rings; steel holders; steel spacers; steel clamps; steel plugs; steel clips; steel caps; steel bands; steel tool boxes; steel catches; steel latches; steel locks; engines; steel hydraulic cylinders; steel hydraulic motors; adapters for hydraulic cylinders and motors; steel hydraulic cylinder and motor parts (couplings; elbows; pipes; reducers; and, tees); hydraulic fluid power pumps; compressors; air conditioner hoses; air conditioner condensers; fuel/oil filters; receiver-dryer used in air conditioning systems; air filters; filter floats; filter screens; steel forestry machinery parts (arms; booms; anchors; bands; shaped, welded boss attachments; brackets; cabs; caps; cases; center joints; coolers; covers; ducts; fuel coolers; guides; intercoolers; links; manifolds; oil coolers; pins; exhaust pipes; air pipes; water pipes; fuel pipes; plates; thrust plates; radiators; rings; upper rollers; lower rollers; shrouds; shims; stays; stoppers; urea tanks; water tanks; trays; and, shoes for the tracks); other forestry machinery parts (decomposition tubes; floats of steel and rubber; handles of PC/ABS alloy; iron levers; roll over protection service plates; textile seat belts); control valves; ball valves; solenoid valves; manifold blocks; plain metal bushings; steel bushings; pulleys; swing bearings; gaskets made of metal sheeting; horns/alarms; sensors, such as thermistors; battery relays; electrical switches; sockets; controllers; wire harness; temperature sensors; pressure sensors; and, electric lighters (duty rate ranges from duty-free to 8.5%).

Public comment is invited from interested parties. Submissions shall be addressed to the Board's Executive Secretary at the address below. The closing period for their receipt is July 3, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: May 18, 2018.
Elizabeth Whiteman,
Acting Executive Secretary.

[FR Doc. 2018-11136 Filed 5-23-18; 8:45 am]

BILLING CODE 3510-DS-P